DEPARTMENT OF TRANSPORTATION

Federal Highway Administration

Environmental Impact Statement: Jefferson, Clear Creek, Summit, Eagle, and Garfield Counties, Colorado

AGENCY: Federal Highway Administration (FHWA), DOT.

ACTION: Notice of Intent.

SUMMARY: The FHWA is issuing this notice to advise the public that a programmatic Environmental Impact Statement (EIS) will be prepared for the I-70 Mountain Corridor from the intersection of State Highway C470 in Jefferson County to Glenwood Springs in Garfield County, a distance of approximately 140 miles crossing five counties in Colorado.

FOR FURTHER INFORMATION CONTACT: Mr. Scott Sands, FHWA Colorado Division, 555 Zang Street, Room 250, Denver, CO 80228, Telephone: 303/969-6730, extension 362.

SUPPLEMENTARY INFORMATION: Pursuant to Section 102(2)(C) of the National Environmental Policy Act of 1969, as amended (NEPA), and as implemented by the Council on Environmental Quality (CEQ) regulations (40 CFR parts 1500-1508) and FHWA regulations (23 CFR part 771), the FHWA, in cooperation with the Colorado Department of Transportation (CDOT), is issuing this notice of intent to prepare a programmatic Tier 1 EIS. The EIS will be prepared in compliance with CEQ regulations at 40 CFR 1501.7 and as authorized by 40 CFR 1502.20 and 23 CFR 771.111(g), to take a broad view of the transportation issues and alternative solutions to assist in identifying needed safety and mobility improvements and reducing congestion on the I-70 Mountain Corridor. The Federal Railroad Administration, though not having jurisdiction over the project, will serve as a cooperating agency, providing technical assistance on rail technology. The U.S. Environmental Protection Agency also will serve as a cooperating agency. In addition, FHWA and CDOT will coordinate closely with the U.S. Forest Service, Federal Transit Administration, and other federal, state, and local agencies throughout the preparation of the programmatic EIS.

Recognizing the need to act on projected increases in congestion and other mobility problems that have been forecasted over a period of the next 20 years, CDOT commissioned the I-70 Mountain Corridor Major Investment Study (MIS), which was completed in late 1998. The recommended improvements resulting from the MIS address alternatives for increased safety and to accommodate existing and future traffic demand. Reference is made to such MIS, which is available for examination at the Colorado Department of Transportation, Region One, 18500 East Colfax Avenue, Aurora, Colorado 80011.

As the next step and to meet objectives in the MIS, CDOT planned to prepare a site-specific EIS to address a 16-mile-long corridor between U.S. 40 and Floyd Hill, Clear Creek County (Federal Register Vol. 64, No. 103, pages 29079-29080, May 28, 1999), an area in need of immediate improvements, in conjunction with a secondary and cumulative impact study of the entire I-70 Mountain Corridor. However, in response to public concern, CDOT will postpone the preparation of the site-specific EIS and begin preparation of the programmatic EIS.

The programmatic EIS will enable CDOT and FHWA to address the transportation problems of the I-70 Mountain Corridor comprehensively as part of the overall I-70 Mountain Corridor transportation system. The overall project termini will extend from C470 to Glenwood Springs in order to assess the transportation problems within the I-70 Mountain Corridor. While the project termini are proposed to match the problem area, some of the proposed solutions will extend into other major locales or corridors (e.g., metropolitan Denver area). The transportation elements identified in the MIS include fixed guideway transit, improved rubber tire transit, highway improvements, aviation, and alternate routes. These and any other reasonable alternatives identified through public comment during scoping will be addressed. The programmatic EIS will develop a 20-year transportation plan and a 50-year vision for the I-70 Mountain Corridor with the intent to balance competing interests and uses of the corridor. The 20-year plan will be a cost-constrained plan that will prioritize improvements and establish procedures for site-specific environmental studies. The programmatic EIS will identify the locations, modes of transportation, critical environmental resources, and general mitigation policy for the preferred alternative.

The approach to the assessment of environmental impacts will begin with agency and public scoping to identify the issues and concerns associated with the corridor. The results of scoping will help define the alternatives and the scope of the environmental studies to be conducted. Alternatives proposed in the MIS and identified through scoping will be evaluated and screened to narrow the range of alternatives considered for the I-70 Mountain Corridor programmatic EIS. Alternatives examined will be eliminated either through screening or advanced to environmental analysis for the programmatic EIS. The assessment will focus on cumulative environmental impacts. The studies and assessment will be documented in the draft programmatic EIS. After its publication, the draft programmatic EIS will be available for agency and public review and comment, and public hearings will be held. On the basis of the draft programmatic EIS and the comments received, a preferred alternative 20-year plan and 50-year vision will be selected and preparation of the final programmatic EIS and Record of Decision will proceed.

The Record of Decision for the programmatic EIS will not result in the environmental clearance of any I-70 transportation-related improvements. However, individual projects could proceed for I-70 improvements if they comply with 23 CFR 771.111(f) criteria: (1) Connect logical termini and be of sufficient length to address environmental issues on a broad scope, (2) have independent utility or independent significance, and (3) not restrict consideration of alternatives for other reasonably foreseeable transportation improvements. To date, projects that comply with 23 CFR 771.111(f) include the Eagle County Airport Interchange, Hogback Park-n-Ride, Georgetown Rockslide Mitigation Project, Colorado Intermountain Fixed Guideway Authority Demonstration and Testing Project, Intermountain Connection Project, and Eisenhower Tunnel Lighting Improvements. If any other projects emerge during the programmatic EIS that comply with 23 CFR 771.111(f), they will be noticed publicly in advance. At present, it is anticipated that the I-70 Mountain Corridor programmatic EIS process will be completed in late 2002.

Integral with the programmatic EIS process, CDOT and FHWA will conduct an extensive and broad public involvement program to keep federal, state, and local agencies, organizations, and interested individuals informed and to provide ample opportunities for such agencies, organizations, and the public to participate throughout the three-year process. To ensure that the full range of issues and alternatives related to this proposed action are identified and addressed, written comments, suggestions, or questions should be directed to the FHWA at the address provided above or directed to:

Ms. Cecelia Joy, Planning and Environmental Manager, Colorado Department of Transportation-Region 1, 18500 East Colfax Avenue, Aurora, Colorado 80011, Telephone: 303/757-9112.

Information describing the purpose of the project, proposed alternatives, area to be evaluated, public involvement program, and preliminary project schedule will be available upon request by contacting Cecelia Joy at the address and telephone number noted above. Scoping comments may be made verbally or in writing to Ms. Joy and at future public meetings, the locations, dates, and times of which will be announced through public notice (newspaper advertisements and other means), as contemplated by 40 CFR 1506.6 and the following CDOT public notice procedure for comparable actions.

(Catalog of Federal Domestic Assistance Program Number 20.205, Highway Planning and Construction. The regulations implementing Executive Order 12372 regarding intergovernmental consultation on Federal programs and activities apply to this program)

Issued on: January 13, 2000.
Ronald A. Speral,
Program Team Leader, Colorado Division, Federal Highway Administration, Lakewood, Colorado.

[FR Doc. 00-1710 Filed 1-24-00; 8:45 am]

BILLING CODE 4910-22-M